DEPARTMENT OF HEALTH AND HUMAN SERVICES

Centers for Disease Control and Prevention

Advisory Committee on Immunization Practices (ACIP)

In accordance with section 10(a)(2) of the Federal Advisory Committee Act (Pub. L. 92-463), the Centers for Disease Control and Prevention (CDC) announce the following meeting of the aforementioned committee.

Times and Dates:8:00 a.m.-5:40 p.m., EST, February 22, 2017; 8:00 a.m.-1:00 p.m., EST, February 23, 2017.

Place: CDC, Tom Harkin Global Communications Center, 1600 Clifton Road NE., Building 19, Kent “Oz” Nelson Auditorium, Atlanta, Georgia 30329.

Status: Open to the public, limited only by the space available. Time will be available for public comment. The public is welcome to submit written comments in advance of the meeting. Comments should be submitted in writing by email to the contact person listed below. The deadline for receipt February 13, 2017. All requests must contain the name, address, and organizational affiliation of the speaker, as well as the topic being addressed. Written comments should not exceed one single-spaced typed page in length and delivered in 3 minutes or less. Please note that the public comment period may end before the time indicated, following the last call for comments. Members of the public who wish to provide public comments should plan to attend the public comment session at the start time listed. Written comments received in advance of the meeting will be included in the official record of the meeting.

The meeting will be webcast live via the World Wide Web; for instructions and more information on ACIP please visit the ACIP Web site: http://www.cdc.gov/vaccines/acip/index.html.

Purpose: The committee is charged with advising the Director, CDC, on the use of immunizing agents. In addition, under 42 U.S.C. 1396s, the committee is mandated to establish and periodically review and, as appropriate, revise the list of vaccines for administration to vaccine-eligible children through the Vaccines for Children (VFC) program, along with schedules regarding dosing interval, dosage, and contraindications to administration of vaccines. Further, under provisions of the Affordable Care Act, section 2713 of the Public Health Service Act, immunization recommendations of the ACIP that have been approved by the Director of the Centers for Disease Control and Prevention and appear on CDC immunization schedules must be covered by applicable health plans.

Matters for Discussion: The agenda will include discussions on: Meningococcal vaccine; influenza; hepatitis B vaccine; herpes zoster vaccine; vaccine safety; yellow fever vaccine; Zika virus vaccine; mumps outbreak; Dengue virus vaccines; Polio Eradication Initiative; Measles and Rubella Elimination Initiative; adult immunization and vaccine supply. A recommendation vote is scheduled for hepatitis B vaccine and influenza. A Vaccines for Children (VFC) vote is scheduled for hepatitis B vaccine.

Agenda items are subject to change as priorities dictate.

Contact Person for More Information: Stephanie Thomas, National Center for Immunization and Respiratory Diseases, CDC, 1600 Clifton Road NE., MS-A27, Atlanta, Georgia 30329, telephone 404/639-8836; Email ACIP@CDC.GOV.

The Director, Management Analysis and Services Office, has been delegated the authority to sign Federal Register notices pertaining to announcements of meetings and other committee management activities for both the Centers for Disease Control and Prevention and the Agency for Toxic Substances and Disease Registry.

Elaine L. Baker,
Director, Management Analysis and Services Office, Centers for Disease Control and Prevention.

[FR Doc. 2017-01624 Filed 1-24-17; 8:45 am]

BILLING CODE 4160-18-P